DEPARTMENT OF ENERGY

Notice of Intent To Prepare an Environmental Impact Statement and To Conduct Public Scoping Meetings, and Notice of Floodplain and Wetlands Involvement for Remediation of the Moab Uranium Mill Tailings Site in Grand County, UT

AGENCY: U.S. Department of Energy.

ACTION: Notice of Intent to prepare an Environmental Impact Statement and to conduct public scoping meetings; correction.

SUMMARY: The Department of Energy published a document in the Federal Register of December 20, 2002, announcing its intent to prepare an Environmental Impact Statement to assess the potential environmental impacts of actions that would remediate contaminated soils, tailings, and ground water at the Moab Uranium Mill, Tailings Site, Grand County, Utah, and contaminated soils in adjacent public and private properties near the Moab Project Site. The document contained an incorrect e-mail address.

FOR FURTHER INFORMATION CONTACT: Mr. Joel Berwick, Moab Project Manager, U.S. Department of Energy, Grand Junction Office, (970) 248-6020.

Correction

In the Federal Register of December 20, 2002, in FR Doc. 02-32126, on page 77969, please make the following correction:

On page 77969, under the heading ADDRESSES, the second paragraph should read: In addition to providing comments at the public scoping meetings, interested parties are invited to record their comments, ask questions concerning the EIS, or request to be placed on the EIS mailing list or document distribution list by leaving a message on the toll-free EIS Hotline 1-800-637-4575, or e-mail at moabcomments@gjo.doe.gov The hotline will have instructions on how to record comments and requests.

Issued in Washington, DC, this 20th day of December, 2002.
Beverly A Cook,
Assistant Secretary, Environment, Safety and Health.

[FR Doc. 02-32910 Filed 12-27-02; 8:45 am]

BILLING CODE 6450-01-M